DEPARTMENT OF TRANSPORTATION

Federal Aviation Administration

14 CFR Part 71

[Docket No. FAA-2006-24234; Airspace Docket No. 06-AWP-5]

RIN 2120-AA66

Amendment to Class E Airspace; Provo, UT

AGENCY: Federal Aviation Administration (FAA), DOT.

ACTION: Final Rule; correction.

SUMMARY: This action corrects an error in the airport reference point (ARP) for Provo Municipal Airport, Provo, UT, in the final rule that was published in the Federal Register on August 1, 2006, (71 FR 43355), Docket No. FAA-2006-24234; Airspace Docket No. 06-AWP-5. In addition, corrections are made to change FAA Order 7400.9O to FAA Order 7400.9N, amending its date in two references to September 1, 2005, effective September 15, 2005; and make two editorial changes, replacing the word attends with amends in the Summary, and Class D to Class E in the legal description.

DATES: Effective Date: 0901 UTC, September 28, 2006. The Director of the Federal Register approves this incorporation by reference action under 14 CFR 71.1, subject to the annual revision of FAA Order 7400.9 and publication of conforming amendments.

FOR FURTHER INFORMATION CONTACT: Francie Hope, Western Terminal Operations Specialist, AWP-520.3, Federal Aviation Administration, 15000 Aviation Boulevard, Lawndale, California 90261, telephone (310) 725-6502.

SUPPLEMENTARY INFORMATION:

History

On August 1, 2006, a final rule was published in the Federal Register (71 FR 43355), Docket No. FAA-2006-24234; Airspace Docket No. 06-AWP-5. This rule amended the Class E airspace area at Provo, UT, revising the legal description ARP to match that of the Provo, UT, Class D airspace. Unfortunately, the Class D airport ARP was also incorrect in that it did not match the current ARP in the National Airspace System Resource Database. The correction to the Class E ARP is made in this docket. In addition, the two references to FAA Order 7400.9O, dated September 1, 2006, and effective September 15, 2006, are corrected to read FAA Order 7400.9N, dated September 1, 2005, and effective September 15, 2005, which is current as of this date. Two editorial changes are made; in the Summary, the word amends replaces attends, and in the legal description, the term Class E replaces Class D airspace.

Correction to Final Rule

Accordingly, pursuant to the authority delegated to me, the changes as described above are corrected, and the legal description for Provo, UT, as published in the Federal Register on August 1, 2006, (71 FR 43355), and incorporated by reference in 14 CFR 71.1, is corrected as follows:

PART 71—[AMENDED]

§ 71.1 [Amended]

* * * * *

ANM UT E2 Provo, UT [Amended]

Provo Municipal Airport, UT

(Lat. 40°13′09″ N, long. 111°43′24″ W)

Spanish Fork-Springville, UT

(Lat. 40°08′30″ N, long. 111°39′41″ W)

That airspace extending upward from the surface to and including 7,000 feet MSL within a 4.3-mile radius of Provo Municipal airport, excluding that airspace within a 2.4 mile radius of the Spanish Fork-Springville Airport. This Class E airspace is effective during specific dates and times established in advance by a Notice to Airmen. The effective date and time will thereafter be continuously published in the Airport/Facility Directory.

* * * * *

Issued in Los Angeles, California, on August 16, 2006.
Anthony J. DiBernardo,
Acting Area Director, Western Terminal Operations.

[FR Doc. 06-7204 Filed 8-28-06; 8:45 am]

BILLING CODE 4910-13-M